DEPARTMENT OF HOMELAND SECURITY

Coast Guard

33 CFR Part 117

[USCG-2008-0864]

Drawbridge Operation Regulations; Raritan River, Arthur Kill, and Their Tributaries, New Jersey

AGENCY: Coast Guard, DHS.

ACTION: Notice of temporary deviation from regulations; request for comments.

SUMMARY: The Commander, First Coast Guard District, has issued a new temporary deviation from the regulation governing the operation of the Arthur Kill (AK) Railroad Bridge across Arthur Kill at mile 11.6 between Staten Island, New York and Elizabeth, New Jersey. This deviation is necessary to test a new operating rule for the bridge that will help determine the most equitable and safe solution to facilitate the present and anticipated needs of navigation and rail traffic. This deviation requires the AK Railroad Bridge to remain in the open position but allows the bridge owner/operator to schedule short bridge closure periods after first broadcasting advance notice to the marine community. This change from the previous deviation will consider the needs of navigation and allow marine interests to adjust their schedules around the bridge closure periods.

DATES: This deviation is effective from 12:01 a.m. on December 15, 2008 through June 12, 2009. Comments must be received by January 31, 2009.

ADDRESSES: Documents indicated in this preamble as being available in the docket are part of docket USCG-2008-0864 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the First Coast Guard District, Battery Park Building, One South Street, New York, NY 10004 between 8:30 a.m. and 4:30 p.m., Monday through Friday except Federal holidays.

FOR FURTHER INFORMATION CONTACT: Mr. Gary Kassof, Bridge Branch, (212) 668-7165.

SUPPLEMENTARY INFORMATION: The Arthur Kill Railroad Bridge (AK RR) has a vertical clearance of 31 feet at mean high water and 35 feet at mean low water in the closed position. The owner of the bridge, New York City Economic Development Corporation (NYCEDC), began a bridge rehabilitation program approximately 10 years ago, as part of the region's Full Freight Access Initiative.

Part of the Full Freight Access Initiative was to restore rail freight service across the bridge to and from the Staten Island Landfill facility (SIL) and the New York Container Terminal (formerly the Howland Hook Terminal). The AK Railroad Bridge rehabilitation project was completed in 2007 in anticipation of renewed rail operations requiring the passage of train traffic across the bridge. Trash trains have been traveling to and from the SIL since June 2007 and the revitalized New York Container Terminal has been receiving railroad freight traffic for the past year.

The operating rule for this bridge found at 33 CFR 117.747 is no longer applicable or necessary as it pertains to the AK RR because the AK RR had been maintained in the open position until last year due to the cessation of all railroad train traffic over the bridge.

Background and Purpose

Beginning with a temporary deviation entitled “Drawbridge Operation Regulations; Raritan River, Arthur Kill, and Their Tributaries, NJ” published on March 20, 2007 in the Federal Register (72 FR 12981), the Coast Guard published a series of three temporary deviations to test a variety of bridge operation schedules culminating in the most recent test deviation published on June 3, 2008 (73 FR 31610). The proposed and final temporary deviation will confirm the lessons learned from the previous tests, namely that shorter bridge closure periods complemented by close coordination between the bridge operator and marine interests, and advance broadcast notice of intended bridge closures should satisfy the reasonable needs of navigation and allow freight rail operations to develop and grow.

Temporary Deviation To Be Established

The schedule considered in this notice would provide daily, unscheduled, bridge closures up to thirty minutes in duration.

This temporary deviation requires the AK RR to remain in the open position at all times except during periods when it is closed for the passage of rail traffic. Conrail, the bridge operator, has established a dedicated hot line at 973-690-2454 for coordination of anticipated bridge closures. Tide restrained, deep draft vessels shall call the hot line daily to advise of expected times of vessel transit through the AKRR. The bridge may not close for the passage of trains during any high tide period (2 hours before until ½ hour after predicted high tide at The Battery, New York) if deep draft, tide restrained vessels have advised Conrail of their intent to transit under the bridge. At least 90 minutes and again at 75 minutes prior to a bridge closure the bridge owner or operator shall issue a manual broadcast notice to mariners (minimum range of 15 miles) on channel 13/16, VHF-FM of its intent to close the bridge for up to thirty minutes. Beginning at 60 minutes prior to closure automated broadcasts must be repeated at 15 minute intervals and at 10 and 5 minutes prior to closure. The Coast Guard shall be informed via call to VTS-NY at 718-354-4088. Each day two bridge closures, each fifteen minutes in duration, separated by a thirty minute bridge open period are authorized to allow multiple train movements across the bridge over a short time interval. Vessels shall plan their transits around the announced closure period(s); however a request for up to a 30 minute delay in the bridge closure to allow navigation to meet tide or current requirements shall be granted if requested within 30 minutes after the initial broadcast. Requests received after the initial 30 minutes will not be granted; therefore marine interests should plan their transits carefully. The bridge owner/operator shall repeat the manual bridge closure notice via marine radio at 75 minutes prior to the scheduled closure then via manual or automated broadcast at 15 minute intervals until 15 minutes prior to the intended closure at which time notice of bridge closure will be broadcast every five minutes and once again as the bridge begins to close and appropriate sound signal given. In the event of bridge operational failure, the bridge owner or operator shall notify the Coast Guard Captain of the Port, New York immediately and shall ensure that a repair crew is on scene at the bridge no later than 45 minutes after the bridge fails to operate and that repair crew shall remain at the bridge until the bridge has been restored to normal operations or raised and locked in the fully open position.

This deviation from the operating regulations is authorized under 33 CFR 117.35.

Dated: December 10, 2008.
Gary Kassof,
Bridge Program Manager, First Coast Guard District.

[FR Doc. E8-31070 Filed 12-30-08; 8:45 am]

BILLING CODE 4910-15-P